DEPARTMENT OF COMMERCE

Foreign-Trade Zones Board

[S-160-2018]

Foreign-Trade Zone 114—Peoria, Illinois; Application for Subzone; Winpak Heat Seal Corporation; Pekin, Illinois

An application has been submitted to the Foreign-Trade Zones Board (the Board) by EDC, Inc., The Economic Development Council for the Peoria Area, grantee of FTZ 114, requesting subzone status for the facility of Winpak Heat Seal Corporation, located in Pekin, Illinois. The application was submitted pursuant to the provisions of the Foreign-Trade Zones Act, as amended (19 U.S.C. 81a-81u), and the regulations of the Board (15 CFR part 400). It was formally docketed on October 9, 2018.

The proposed subzone (24.6 acres) is located at 1821 Riverway Drive, Pekin. The application states that a notification of proposed production activity will be submitted. Any such request will be published separately for public comment. The proposed subzone would be subject to the existing activation limit of FTZ 114.

In accordance with the Board's regulations, Elizabeth Whiteman of the FTZ Staff is designated examiner to review the application and make recommendations to the Executive Secretary.

Public comment is invited from interested parties. Submissions shall be addressed to the Board's Executive Secretary at the address below. The closing period for their receipt is November 26, 2018. Rebuttal comments in response to material submitted during the foregoing period may be submitted during the subsequent 15-day period to December 10, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: October 9, 2018.
Andrew McGilvray,
Executive Secretary.

[FR Doc. 2018-22370 Filed 10-12-18; 8:45 am]

BILLING CODE 3510-DS-P